DEPARTMENT OF HOMELAND SECURITY

Federal Emergency Management Agency

[Docket ID FEMA-2014-0002; Internal Agency Docket No. FEMA-B-1420]

Changes in Flood Hazard Determinations

AGENCY: Federal Emergency Management Agency, DHS.

ACTION: Notice.

SUMMARY: This notice lists communities where the addition or modification of Base Flood Elevations (BFEs), base flood depths, Special Flood Hazard Area (SFHA) boundaries or zone designations, or the regulatory floodway (hereinafter referred to as flood hazard determinations), as shown on the Flood Insurance Rate Maps (FIRMs), and where applicable, in the supporting Flood Insurance Study (FIS) reports, prepared by the Federal Emergency Management Agency (FEMA) for each community, is appropriate because of new scientific or technical data. The FIRM, and where applicable, portions of the FIS report, have been revised to reflect these flood hazard determinations through issuance of a Letter of Map Revision (LOMR), in accordance with Title 44, Part 65 of the Code of Federal Regulations (44 CFR part 65). The LOMR will be used by insurance agents and others to calculate appropriate flood insurance premium rates for new buildings and the contents of those buildings. For rating purposes, the currently effective community number is shown in the table below and must be used for all new policies and renewals.

DATES: These flood hazard determinations will become effective on the dates listed in the table below and revise the FIRM panels and FIS report in effect prior to this determination for the listed communities.

From the date of the second publication of notification of these changes in a newspaper of local circulation, any person has ninety (90) days in which to request through the community that the Deputy Associate Administrator for Mitigation reconsider the changes. The flood hazard determination information may be changed during the 90-day period.

ADDRESSES: The affected communities are listed in the table below. Revised flood hazard information for each community is available for inspection at both the online location and the respective community map repository address listed in the table below. Additionally, the current effective FIRM and FIS report for each community are accessible online through the FEMA Map Service Center at www.msc.fema.gov for comparison.

Submit comments and/or appeals to the Chief Executive Officer of the community as listed in the table below.

FOR FURTHER INFORMATION CONTACT: Luis Rodriguez, Chief, Engineering Management Branch, Federal Insurance and Mitigation Administration, FEMA, 500 C Street SW., Washington, DC 20472, (202) 646-4064, or (email) Luis.Rodriguez3@fema.dhs.gov; or visit the FEMA Map Information eXchange (FMIX) online at www.floodmaps.fema.gov/fhm/fmx_main.html.

SUPPLEMENTARY INFORMATION: The specific flood hazard determinations are not described for each community in this notice. However, the online location and local community map repository address where the flood hazard determination information is available for inspection is provided.

Any request for reconsideration of flood hazard determinations must be submitted to the Chief Executive Officer of the community as listed in the table below.

The modifications are made pursuant to section 201 of the Flood Disaster Protection Act of 1973, 42 U.S.C. 4105, and are in accordance with the National Flood Insurance Act of 1968, 42 U.S.C. 4001 et seq., and with 44 CFR part 65.

The FIRM and FIS report are the basis of the floodplain management measures that the community is required either to adopt or to show evidence of having in effect in order to qualify or remain qualified for participation in the National Flood Insurance Program (NFIP).

These flood hazard determinations, together with the floodplain management criteria required by 44 CFR 60.3, are the minimum that are required. They should not be construed to mean that the community must change any existing ordinances that are more stringent in their floodplain management requirements. The community may at any time enact stricter requirements of its own or pursuant to policies established by other Federal, State, or regional entities. The flood hazard determinations are in accordance with 44 CFR 65.4.

The affected communities are listed in the following table. Flood hazard determination information for each community is available for inspection at both the online location and the respective community map repository address listed in the table below. Additionally, the current effective FIRM and FIS report for each community are accessible online through the FEMA Map Service Center at www.msc.fema.gov for comparison.

State and county | Location and case No. | Chief executive officer of community | Community map repository | Online location of Letter of Map Revision | Effective date of modification | Community No.
Illinois:
Cook | City of Palos Heights (13-05-8093P) | The Honorable Robert Straz, Mayor, City of Palos Heights, 7607 West College Drive, Palos Heights, IL 60463 | City Hall, 7607 West College Drive, Palos Heights, IL 60463 | http://www.msc.fema.gov/lomc | September 19, 2014 | 170142
DuPage | Village of Lisle (14-05-2185P) | The Honorable Joseph J. Broda, Mayor, Village of Lisle, 925 Burlington Avenue, Lisle, IL 60532 | Village Hall, 925 Burlington Avenue, Lisle, IL 60532 | http://www.msc.fema.gov/lomc | September 10, 2014 | 170211
Indiana:
Marshall | City of Plymouth (14-05-0926P) | The Honorable Mark Senter, Mayor, City of Plymouth, 124 North Michigan Street, Plymouth, IN 46563 | 124 North Michigan Street, Plymouth, IN 46563 | http://www.msc.fema.gov/lomc | September 11, 2014 | 180164
Marshall | Unincorporated Areas of Marshall County, (14-05-0926P) | The Honorable Kevin Overmyer, Marshall County President, Board of Commissioners, 112 West Jefferson Street, Room 205, Plymouth, IN 46563 | 112 West Jefferson, Plymouth, IN 46563 | http://www.msc.fema.gov/lomc | September 11, 2014 | 180443
Kansas: Lyon | City of Emporia (13-07-1700P) | The Honorable Rob Gilligan, Mayor, City of Emporia, P.O. Box 928, Emporia, KS 66801 | 521 Market Street, Emporia, KS 66801 | http://www.msc.fema.gov/lomc | October 10, 2014 | 200203
Minnesota:
Olmsted | City of Rochester (13-05-8106P) | The Honorable Ardell F. Brede, Mayor, City of Rochester, 201 4th Street SE., Room 281, Rochester, MN 55904 | 2122 Campus Drive, Suite 300, Rochester, MN 55904 | http://www.msc.fema.gov/lomc | October 17, 2014 | 275246
Pennington | City of Thief River Falls (14-05-0815P) | The Honorable Jim Dagg, Mayor, City of Thief River Falls, 405 Third Street East, Thief River Falls, MN 56701 | City Hall, 405 Third Street East, Thief River Falls, MN 56701 | http://www.msc.fema.gov/lomc | September 18, 2014 | 270344
Pennington | Unincorporated Areas of Pennington County (14-05-0815P) | The Honorable Neil Peterson, Pennington County Chairman, Board of Commissioners, P.O. Box 616, Thief River Falls, MN 56701 | 201 Sherwood Avenue South, Thief River Falls, MN 56701 | http://www.msc.fema.gov/lomc | September 18, 2014 | 270651
Missouri:
Buchanan | City of St. Joseph (14-07-0148P) | The Honorable Bill Falkner, Mayor, City of Saint Joseph, 1100 Frederick Avenue, Room 309, St. Joseph, MO 64506 | 1100 Frederick Avenue, Room 107, St. Joseph, MO 64506 | http://www.msc.fema.gov/lomc | September 25, 2014 | 290043
Cape Girardeau | City of Cape Girardeau (14-07-0463P) | The Honorable Harry Rediger, Mayor, City of Cape Girardeau, 401 Independence Street, Cape Girardeau, MO 63703 | 401 Independence Street, Cape Girardeau, MO 63703 | http://www.msc.fema.gov/lomc | September 8, 2014 | 290458
New Hampshire: Hillsborough | City of Nashua (14-01-0876P) | The Honorable Donnalee Lozeau, Mayor, City of Nashua, 229 Main Street, Nashua, NH 03061 | 229 Main Street, Nashua, NH 03061 | http://www.msc.fema.gov/lomc | September 19, 2014 | 330097
Ohio:
Logan | City of Bellefontaine (14-05-4416P) | The Honorable Adam Brannon, Mayor, City of Bellefontaine, 135 North Detroit Street, Bellefontaine, OH 43311 | 135 North Detroit Street, Bellefontaine, OH 43311 | http://www.msc.fema.gov/lomc | September 19, 2014 | 390340
Summit | City of Hudson (14-05-3718P) | The Honorable William A. Currin, Mayor, City of Hudson, 115 Executive Parkway, Suite 400, Hudson, OH 44236 | 27 East Main Street, Hudson, OH 44236 | http://www.msc.fema.gov/lomc | September 22, 2014 | 390660
Oregon:
Jackson | City of Medford (13-10-1490P) | The Honorable Gary Wheeler, Mayor, City of Medford, 411 West 8th Street, Medford, OR 97501 | 411 West 8th Street, Medford, OR 97501 | http://www.msc.fema.gov/lomc | September 18, 2014 | 410096
Jackson | City of Medford (14-10-0435P) | The Honorable Gary Wheeler, Mayor, City of Medford, 411 West 8th Street, Medford, OR 97501 | 411 West 8th Street, Medford, OR 97501 | http://www.msc.fema.gov/lomc | September 15, 2014 | 410096
Wisconsin: Chippewa | City of Eau Clare (14-05-1736P) | Mr. Russell Van Gompel, City of Eau Claire, City Manager, 203 South Farwell Street, Third Floor, Eau Claire, WI 54701 | City Hall, 203 South Farwell Street, Third Floor, Eau Claire, WI 54701 | http://www.msc.fema.gov/lomc | September 12, 2014 | 550128

(Catalog of Federal Domestic Assistance No. 97.022, “Flood Insurance.”)

Dated: June 17, 2014.
Roy E. Wright,
Deputy Associate Administrator for Mitigation, Department of Homeland Security, Federal Emergency Management Agency.

[FR Doc. 2014-15831 Filed 7-7-14; 8:45 am]

BILLING CODE 9110-12-P